DEPARTMENT OF ENERGY

Federal Energy Regulatory Commission

Combined Notice of Filings #1

Take notice that the Commission received the following electric corporate filings:

Docket Numbers: EC21-87-000.

Applicants: PPL Corporation, The Narragansett Electric Company.

Description: Joint Application for Authorization Under Section 203 of the Federal Power Act of PPL Corporation, et al.

Filed Date: 5/4/21.

Accession Number: 20210504-5182.

Comments Due: 5 p.m. ET 5/25/21.

Take notice that the Commission received the following electric rate filings:

Docket Numbers: ER11-2160-018; ER10-1907-021; ER10-1918-022; ER10-1930-014; ER10-1931-015; ER10-1932-016; ER10-1935-016; ER10-1950-022; ER10-1962-017; ER10-1966-016; ER10-2720-024; ER11-2642-019; ER11-3635-015; ER11-4428-025; ER12-1228-025; ER12-1880-024; ER12-2225-015; ER12-2226-015; ER12-895-023; ER13-2112-013; ER13-2147-003; ER14-1630-012; ER14-2138-012; ER14-2707-020; ER15-1375-011; ER15-2101-010; ER15-2477-011; ER15-2601-008; ER16-1354-010; ER16-1872-012; ER16-2275-013; ER16-2276-013; ER16-90-011; ER17-822-008; ER17-823-008; ER18-1771-011; ER18-1952-010; ER18-2003-009; ER18-2182-009; ER18-2246-011; ER18-241-007; ER19-1392-006; ER19-2389-006; ER19-2398-007; ER20-2019-003; ER20-2064-003; ER20-2690-003; ER20-2695-003; ER21-254-004.

Applicants: FPL Energy Montezuma Wind, LLC, FPL Energy North Dakota Wind, LLC, FPL Energy North Dakota Wind II, LLC, FPL Energy South Dakota Wind, LLC, FPL Energy Stateline II, Inc., FPL Energy Vansycle, L.L.C., FPL Energy Wyman, LLC, FPL Energy Wyman IV, LLC, Frontier Utilities Northeast LLC, Garden Wind, LLC, Genesis Solar, LLC, Golden Hills Interconnection, LLC, Golden Hills North Wind, LLC, Golden Hills Wind, LLC, Golden West Power Partners, LLC, Gray County Wind, LLC, Grazing Yak Solar, LLC, Green Mountain Storage, LLC, Gulf Power Company, Hancock County Wind, LLC, Harmony Florida Solar, LLC, Hatch Solar Energy Center I, LLC, Heartland Divide Wind Project, LLC, High Lonesome Mesa Wind, LLC, High Majestic Wind I, LLC, High Majestic Wind II, LLC, High Winds, LLC, Jordan Creek Wind Farm LLC, Kingman Wind Energy I, LLC, Kingman Wind Energy II, LLC, Langdon Renewables, LLC, Limon Wind, LLC, Limon Wind II, LLC, Limon Wind III, LLC, Live Oak Solar, LLC, Logan Wind Energy LLC, Lorenzo Wind, LLC, Luz Solar Partners Ltd., III, Luz Solar Partners Ltd., IV, Luz Solar Partners Ltd., V, Mammoth Plains Wind Project, LLC, Mantua Creek Solar, LLC, Marshall Solar, LLC, McCoy Solar, LLC, Minco Wind, LLC, Minco Wind II, LLC, Minco Wind III, LLC, Minco IV & V Interconnection, LLC, Minco Wind Interconnection Services, LLC, Mohave County Wind Farm LLC.

Description: Notice of Change in Status of GridLiance Transcos (Part 2).

Filed Date: 4/30/21.

Accession Number: 20210430-5752.

Comments Due: 5 p.m. ET 5/21/21.

Docket Numbers: ER15-1883-012; ER10-1841-022; ER10-1845-022; ER10-1849-024; ER10-1851-014; ER10-1852-052; ER10-1857-016; ER10-1890-018; ER10-1899-016; ER10-2005-022; ER11-26-022; ER12-2227-024; ER12-569-025; ER13-1991-017; ER13-1992-017; ER13-712-026; ER13-752-015; ER15-1418-012; ER15-1925-018; ER15-2582-009; ER15-2676-017; ER16-1672-015; ER16-2190-014; ER16-2191-014; ER16-2453-015; ER16-632-011; ER16-91-012; ER17-2152-011; ER18-1534-008; ER18-1863-008; ER18-1978-007; ER18-2118-010; ER18-882-010; ER19-1003-009; ER19-1393-009; ER19-1394-009; ER19-2269-004; ER19-2373-005; ER19-2437-005; ER19-2461-005; ER19-2901-006; ER19-987-009; ER20-1769-003; ER20-1980-004; ER20-1986-002; ER20-1987-004; ER20-2027-002; ER20-2049-003; ER20-2179-004; ER20-819-005; ER20-820-004.

Applicants: Adelanto Solar, LLC, Adelanto Solar II, LLC, Armadillo Flats Wind Project, LLC, Ashtabula Wind I, LLC, Ashtabula Wind II, LLC, Ashtabula Wind III, LLC, Baldwin Wind Energy, LLC, Blackwell Wind, LLC, Blythe Solar 110, LLC, Blythe Solar II, LLC, Blythe Solar III, LLC, Blythe Solar IV, LLC, Brady Interconnection, LLC, Brady Wind, LLC, Brady Wind II, LLC, Breckinridge Wind Project, LLC, Bronco Plains Wind, LLC, Butler Ridge Wind Energy Center, LLC, Carousel Wind Farm, LLC, Casa Mesa Wind, LLC, Cedar Bluff Wind, LLC, Cedar Springs Wind, LLC, Cedar Springs Wind III, LLC, Cedar Springs Transmission, LLC, Cerro Gordo Wind, LLC, Chaves County Solar, LLC, Chicot Solar, LLC, Cimarron Wind Energy, LLC, Coolidge Solar I, LLC, Cottonwood Wind Project, LLC, Crowned Ridge Wind, LLC, Crystal Lake Wind Energy I, LLC, Crystal Lake Wind Energy II, LLC, Crystal Lake Wind III, LLC, Dougherty County Solar, LLC, Day County Wind I, LLC, Desert Sunlight 250, LLC, Desert Sunlight 300, LLC, East Hampton Energy Storage Center, LLC, Elk City Renewables II, LLC, Elk City Wind, LLC, Emmons-Logan Wind, LLC, Endeavor Wind I, LLC, Endeavor Wind II, LLC, Energy Storage Holdings, LLC, Ensign Wind, LLC, ESI Vansycle Partners, L.P., Florida Power & Light Company, FPL Energy Cape, LLC, FPL Energy Green Power Wind, LLC, FPL Energy Illinois Wind, LLC.

Description: Notice of Change in Status of GridLiance Transcos (Part 1).

Filed Date: 4/30/21.

Accession Number: 20210430-5753.

Comments Due: 5 p.m. ET 5/21/21.

Docket Numbers: ER21-1846-000.

Applicants: Tilton Energy LLC, Yankee Street, LLC, Tait Electric Generating Station, LLC, Southern Illinois Generation Company, LLC, Sidney, LLC, Shelby County Energy Center, LLC, O.H. Hutchings CT, LLC, Monument Generating Station, LLC, Montpelier Generating Station, LLC, Lee County Generating Station, LLC, Grand Tower Energy Center, LLC, Gibson City Energy Center, LLC, Eagle Point Power Generation LLC.

Description: § 205(d) Rate Filing: Tilton Energy LLC/FERC Electric Tariffs to be effective 5/5/2021.

Filed Date: 5/4/21.

Accession Number: 20210504-5168.

Comments Due: 5 p.m. ET 5/25/21.

Docket Numbers: ER21-1847-000.

Applicants: Interstate Power and Light Company.

Description: § 205(d) Rate Filing: IPL Cert. of Concurrence for SFA-ER21-1842-000 to be effective 5/5/2021.

Filed Date: 5/4/21.

Accession Number: 20210504-5169.

Comments Due: 5 p.m. ET 5/25/21.

Docket Numbers: ER21-1848-000.

Applicants: Isabella Wind, LLC.

Description: Tariff Cancellation: Isabella Wind MBR Cancellation Filing to be effective 5/5/2021.

Filed Date: 5/4/21.

Accession Number: 20210504-5171.

Comments Due: 5 p.m. ET 5/25/21.

Docket Numbers: ER21-1849-000.

Applicants: Midcontinent Independent System Operator, Inc.

Description: § 205(d) Rate Filing: 2021-05-05_SA 3175 Delta's Edge Solar-Entergy Mississippi 2nd Rev GIA (J679) to be effective 4/28/2021.

Filed Date: 5/5/21.

Accession Number: 20210505-5018.

Comments Due: 5 p.m. ET 5/26/21.

Docket Numbers: ER21-1850-000.

Applicants: PJM Interconnection, L.L.C.

Description: § 205(d) Rate Filing: Original WMPA, Service Agreement No. 6059; Queue No. AG1-065 to be effective 4/5/2021.

Filed Date: 5/5/21.

Accession Number: 20210505-5020.

Comments Due: 5 p.m. ET 5/26/21.

Docket Numbers: ER21-1851-000.

Applicants: Midcontinent Independent System Operator, Inc., Ameren Illinois Company.

Description: § 205(d) Rate Filing: 2021-05-05_SA 3653 Ameren IL-Hoosier Energy Switching Agreement to be effective 7/5/2021.

Filed Date: 5/5/21.

Accession Number: 20210505-5026.

Comments Due: 5 p.m. ET 5/26/21.

Docket Numbers: ER21-1852-000.

Applicants: PJM Interconnection, L.L.C.

Description: § 205(d) Rate Filing: Original WMPA, Service Agreement No. 6055; Queue No. AG1-095 to be effective 4/6/2021.

Filed Date: 5/5/21.

Accession Number: 20210505-5033.

Comments Due: 5 p.m. ET 5/26/21.

Docket Numbers: ER21-1853-000.

Applicants: PJM Interconnection, L.L.C.

Description: § 205(d) Rate Filing: Original ISA, SA No. 6031 and ICSA, SA No. 6032; Queue No. AB2-136 to be effective 4/5/2021.

Filed Date: 5/5/21.

Accession Number: 20210505-5039.

Comments Due: 5 p.m. ET 5/26/21.

Docket Numbers: ER21-1854-000.

Applicants: Tri-State Generation and Transmission Association, Inc.

Description: § 205(d) Rate Filing: Rate Schedule FERC No. 325 between Tri-State and EEA to be effective 7/5/2021.

Filed Date: 5/5/21.

Accession Number: 20210505-5081.

Comments Due: 5 p.m. ET 5/26/21.

Docket Numbers: ER21-1855-000.

Applicants: Tri-State Generation and Transmission Association, Inc.

Description: § 205(d) Rate Filing: Rate Schedule FERC No. 326 between Tri-State and EEA to be effective 7/5/2021.

Filed Date: 5/5/21.

Accession Number: 20210505-5083.

Comments Due: 5 p.m. ET 5/26/21.

Docket Numbers: ER21-1856-000.

Applicants: PacifiCorp.

Description: § 205(d) Rate Filing: NTUA Const Agmt Red Mesa Affected System to be effective 7/5/2021.

Filed Date: 5/5/21.

Accession Number: 20210505-5098.

Comments Due: 5 p.m. ET 5/26/21.

Docket Numbers: ER21-1857-000.

Applicants: NorthWestern Corporation.

Description: Tariff Cancellation: Cancellation of SA 889—EPC Agreement Idaho Power Company to be effective 5/6/2021.

Filed Date: 5/5/21.

Accession Number: 20210505-5126.

Comments Due: 5 p.m. ET 5/26/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 5, 2021.
Kimberly D. Bose,
Secretary.

[FR Doc. 2021-09926 Filed 5-10-21; 8:45 am]

BILLING CODE 6717-01-P